DEPARTMENT OF HEALTH AND HUMAN SERVICES

Administration for Children and Families

Proposed Information Collection Activity; Case Plan Requirement, Title IV-E of the Social Security Act

AGENCY: Children's Bureau, Administration for Children and Families, United States Department of Health and Human Services.

ACTION: Request for public comments.

SUMMARY: The Administration for Children and Families (ACF) is requesting a three-year extension of the information collection Case Plan Requirement, Title IV-E of the Social Security Act, (Office of Management and Budget (OMB)) #0970-0428, expiration September 9, 2023). There are no changes to the requirements, but burden estimates have been updated to reflect current numbers of children in foster care.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The case plan information collection is authorized in sections 422(b)(8)(A)(ii) and 471(a)(16) and defined in sections 475 and 475A of the Social Security Act (the Act). Statutory requirements in the Act mandate that States, Territories, and Tribes with an approved title IV-E plan develop a case review system and case plan for each child in the foster care system for whom the State, Territory, or Tribe receives title IV-E reimbursement of foster care maintenance payments. The case review system assures that each child has a case plan designed to achieve placement in a safe setting that is the least restrictive, most family-like setting available and in close proximity to the child's parental home, consistent with the best interest and special needs of the child. States, Territories, and Tribes meeting these requirements also partly comply with title IV-B, section 422(b), of the Act, which assures certain protections for children in foster care. The case plan is a written document that provides a narrative description of the child-specific program of care. Federal regulations at 45 CFR 1356.21(g) and sections 475 and 475A of the Act delineate the specific information that must be addressed in the case plan. ACF does not specify a format for the case plan nor does ACF require submission of the document to the Federal Government. Case plan information is recorded in a format developed and maintained by the State, Territorial, or Tribal title IV-E agency.

Buren estimates have been adjusted to reflect two additional agencies and an increased number of children exiting foster care.

Respondents: State, Territorial, and Tribal title IV-agencies.

Annual Burden Estimates
Instrument | Total number of respondents | Total number of responses per respondent | Average burden hours per response | Total burden hours | Annual burden hours
Case Plan | 66 | 23,039 | 4.8 | 7,298,755 | 2,432,918

Estimated Total Annual Burden Hours: 2,432,918.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 622; 42 U.S.C. 671; 42 U.S.C. 675; 42 U.S.C. 675a.

Mary B. Jones,
ACF/OPRE Certifying Officer.

[FR Doc. 2023-10800 Filed 5-19-23; 8:45 am]

BILLING CODE 4184-01-P